CONSUMER PRODUCT SAFETY COMMISSION

16 CFR Part 1422

[Docket No. CPSC-2009-0087]

Recreational Off-Highway Vehicles (ROVs); Notice of Extension of Comment Period

AGENCY: U.S. Consumer Product Safety Commission.

ACTION: Extension of comment period.

SUMMARY: The Consumer Product Safety Commission (Commission or CPSC) published a notice of proposed rulemaking (NPR) in the Federal Register on November 19, 2014, concerning recreational off-highway vehicles (ROVs). The NPR invited the public to submit written comments by February 2, 2015. In response to two requests for an extension, the Commission is extending the comment period.

DATES: Submit comments by April 8, 2015.

ADDRESSES: You may submit comments, identified by Docket No. CPSC-2009-0087, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2009-0087 into the “Search” box and follow the prompts.

SUPPLEMENTARY INFORMATION: On November 19, 2014, the Commission published an NPR in the Federal Register proposing standards that would apply to ROVs. (79 FR 68964). The Commission issued the proposed rule under the authority of the Consumer Product Safety Act (CPSA). The Recreational Off-Highway Vehicle Association (ROHVA) requested a minimum 60-day extension of the comment period to receive information ROHVA had requested from CPSC and also to review and analyze ROV incident data, proposed findings, and proposed requirements in the NPR. The Outdoor Power Equipment Institute (OPEI) also requested an extension of the ROV NPR comment period to receive and analyze information that OPEI requested from CPSC and also to review ROV incident data and conduct testing on ROVs. OPEI asked that the comment period be extended to August 30, 2015.

The Commission has considered the requests and is extending the comment period until April 8, 2015.¹ This date is approximately 75 days (the length of the original comment period) from the date that the CPSC made the information requested by ROHVA and OPEI available to the public at http://www.cpsc.gov/Newsroom/FOIA/Investigations-and-Incident-Reports/. The Commission believes that this extension allows adequate time for interested persons to submit comments on any aspect of the proposed rule, including the newly-available information, without significantly delaying the rulemaking.

¹ The Commission voted 5-0 to publish this notice in the Federal Register. Commissioner Robert S. Adler issued a statement regarding the matter (available at http://www.cpsc.gov/en/About-CPSC/Commissioners/Robert-Adler/Commissioner-Adler-Statements/Statement-of-Commissioner-Robert-Adler-on-the-Request-for-an-Extension-of-the-Comment-Period-for-the-Notice-of-Proposed-Rulemaking-for-Recreational-Off-Highway-Vehicles/?utm_source=rss&utm_medium=rss&utm_campaign=Adler+Statements.)

Alberta E. Mills,
Acting Secretary, U.S. Consumer Product Safety Commission.

[FR Doc. 2015-01110 Filed 1-22-15; 8:45 am]

BILLING CODE 6355-01-P